FEDERAL MARITIME COMMISSION

Ocean Transportation Intermediary License Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR part 515, effective on the corresponding date shown below:

License Number: 002723NF.

Name: Air-Oceanic Services, Inc.

Address: 11010 Nw 92nd Terr., Miami, FL 33178.

Date Revoked: November 16, 2008.

Reason: Failed To Maintain Valid Bonds.

License Number: 012114N.

Name: Amerussia Shipping Company Inc.

Address: Amerussia House, 51 Chestnut St., Rutherford, NJ 07070.

Date Revoked: November 6, 2008.

Reason: Surrendered License Voluntarily.

License Number: 002917NF.

Name: Brahm International Ltd.

Address: 3321 W. Rawson Ave., Franklin, WI 53132.

Date Revoked: November 10, 2008.

Reason: Surrendered License Voluntarily.

License Number: 014811NF.

Name: Ceva Ocean Line, Inc.

Address: 15350 Vickery Dr., Houston, TX 77032.

Date Revoked: December 22, 2008.

Reason: Surrendered License Voluntarily.

License Number: 016021F.

Name: Dynalink Global Systems, Inc.

Address: 111-115 F.E. Rodgers Blvd., So., Ste. 308, Harrison, NJ 07029.

Date Revoked: April 21, 2008.

Reason: Surrendered License Voluntarily.

License Number: 011949N.

Name: Eastern Trans Line, Inc.

Address: 500 Nordhoff Pl., Englewood, NJ 07631.

Date Revoked: November 2, 2008.

Reason: Failed To Maintain A Valid Bond.

License Number: 018652N.

Name: Eternity Worldwide Inc. DBA Eternity Int'l Freight Forwarder (USA), Inc.

Address: C/O 1800 West Dr., San Marino, CA 91108-2561.

Date Revoked: November 26, 2008.

Reason: Surrendered License Voluntarily.

License Number: 015072N.

Name: Eti Container Line, Ltd.

Address: 325b W. Lake St., Elmhurst, Il 60126.

Date Revoked: December 5, 2008.

Reason: Surrendered License Voluntarily.

License Number: 019665N.

Name: EZ Logistics, Inc.

Address: 17890 Castleton St., Ste. #306, City Of Industry, CA 91748.

Date Revoked: December 19, 2008.

Reason: Failed To Maintain A Valid Bond.

License Number: 018609N.

Name: Great World Int'l Services, Inc.

Address: 236 West Portal Ave., #772, San Francisco, CA 94127.

Date Revoked: December 31, 2008.

Reason: Surrendered License Voluntarily.

License Number: 020134N.

Name: International Shipping Express, Inc.

Address: 5110 Firestone Pl., So. Gate, CA 90280.

Date Revoked: October 16, 2008.

Reason: Failed To Maintain A Valid Bond.

License Number: 002541F.

Name: KOG Transport, Inc.

Address: 299 Broadway, Ste. 1815, New York, NY 10007.

Date Revoked: December 12, 2008.

Reason: Failed To Maintain A Valid Bond.

License Number: 004160F.

Name: Mid-Atlantic Trade Services, Inc.

Address: P.O. Box 8699 Bwia Amf, Baltimore, MD 21240

Date Revoked: December 2, 2008.

Reason: Surrendered License Voluntarily.

License Number: 018778NF.

Name: Ocean Express Miami LLC DBA Ocean Express.

Address: 7950 Nw 77th Street, Ste. 4, Miami, FL 33166.

Date Revoked: December 16, 2008.

Reason: Surrendered License Voluntarily.

License Number: 019913NF.

Name: Ocean Express Shipping, LLC DBA Ocean Express.

Address: 411 North Harbor Blvd., Ste. 203, San Pedro, CA 90731.

Date Revoked: December 16, 2008.

Reason: Surrendered License Voluntarily.

License Number: 009650NF.

Name: Roadway Express, Inc.

Address: 1077 Gorge Blvd., P.O. Box 471, Akron, OH 44309.

Date Revoked: December 10, 2008.

Reason: Surrendered License Voluntarily.

License Number: 018490F.

Name: Senator International Freight Forwarding, L.L.C.

Address: 105 Fieldcrest Ave., Edison, NJ 08837.

Date Revoked: November 1, 2008.

Reason: Surrendered License Voluntarily.

License Number: 017407NF.

Name: STS North America Inc.

Address: 1750 112th Ave., NW., Ste. C226, Bellevue, WA 98004.

Date Revoked: November 17, 2008.

Reason: Surrendered License Voluntarily.

License Number: 001878F.

Name: Trans-America Forwarders, Inc. DBA Trans-America Forwarders.

Address: 8345 NW 74th St., Miami, FL 31126-2325.

Date Revoked: December 1, 2008.

Reason: Surrendered License Voluntarily.

License Number: 019149N.

Name: Uniwide Cargomovers & Travel, Inc.

Address: 1232 W. 223rd St., Torrance, CA 90502.

Date Revoked: November 8, 2008.

Reason: Failed To Maintain A Valid Bond.

License Number: 019973F.

Name: West Coast Forwarding, Inc.

Address: 1028 N. Lake Ave., Ste. 202, Pasadena, CA 91104.

Date Revoked: December 22, 2008.

Reason: Surrendered License Voluntarily.

Sandra L. Kusumoto,
Director, Bureau of Certification and Licensing.

[FR Doc. E9-2368 Filed 2-3-09; 8:45 am]

BILLING CODE 6730-01-P